DEPARTMENT OF COMMERCE

National Telecommunications and Information Administration

NTIA 2018 Spectrum Policy Symposium

AGENCY: National Telecommunications and Information Administration, U.S. Department of Commerce.

ACTION: Notice of public meeting.

SUMMARY: The National Telecommunications and Information Administration (NTIA), U.S. Department of Commerce, will host a symposium on June 12, 2018, focusing on the development and implementation of national spectrum policies to support continuing U.S. leadership and innovation in wireless telecommunications and other spectrum-dependent technologies.

DATES: The symposium will be held on June 12, 2018, from 8:30 a.m. to 11:00 a.m., Eastern Daylight Time (EDT).

ADDRESSES: The symposium will be held at The National Press Club, 529 14th Street NW, 13th Floor, Washington, DC 20045.

FOR FURTHER INFORMATION CONTACT: John Alden, Telecommunications Specialist, Office of Spectrum Management, NTIA, at (202) 482-8046 or spectrumsymposium@ntia.doc.gov. Please direct media inquiries to NTIA's Office of Public Affairs, (202) 482-7002; email: press@ntia.doc.gov.

SUPPLEMENTARY INFORMATION: NTIA serves as the President's principal adviser on telecommunications policies pertaining to the Nation's economic and technological advancement and establishes policies concerning use of the radio spectrum by federal agencies. NTIA is hosting a symposium that will focus on developing, implementing and maintaining spectrum management policies that enable the United States to strengthen its global leadership role in the introduction of wireless telecommunications technology, services, and innovation, while also supporting the expansion of existing technologies and the Nation's homeland security, national defense, and other critical government missions.

The keynote address will be delivered by David J. Redl, Assistant Secretary of Commerce for Communications and Information and NTIA Administrator. Additional speakers from Congress and the Executive Office of the President have been invited. Policy panel sessions are expected to include participants from the Federal Communications Commission, other federal agencies, and private sector and other non-government organizations. Prior to the event, NTIA will post a detailed agenda on its website at: https://www.ntia.doc.gov/other-publication/2018/2018-ntia-spectrum-policy-symposium.

The symposium is open to the public and members of the press. Pre-registration is requested due to limited seating capacity. Registration will be accepted on a first come, first served basis. NTIA asks registrants to provide their first and last names, email addresses, and their organization (optional) for both registration purposes and to receive updates on the symposium. Registration information, the agenda, and meeting updates, if any, and other relevant documents will be available on NTIA's website at https://www.ntia.doc.gov/other-publication/2018/2018-ntia-spectrum-policy-symposium.

The meeting will be physically accessible to people with disabilities. Individuals requiring accommodations, such as sign language interpretation or other ancillary aids, should notify Mr. Alden at the contact information listed above at least ten (10) business days before the event.

Dated: April 26, 2018.
Kathy Smith,
Chief Counsel, National Telecommunications and Information Administration.

[FR Doc. 2018-09237 Filed 5-1-18; 8:45 am]

BILLING CODE 3510-60-P